DEPARTMENT OF EDUCATION

[Docket No.: ED-2017-ICCD-0046]

Agency Information Collection Activities; Submission to the Office of Management and Budget for Review and Approval; Comment Request; Impact Evaluation of Parent Messaging Strategies on Student Attendance

AGENCY: Institute of Education Sciences (IES), Department of Education (ED).

ACTION: Notice.

SUMMARY: In accordance with the Paperwork Reduction Act of 1995, ED is proposing a new information collection.

DATES: Interested persons are invited to submit comments on or before July 21, 2017.

ADDRESSES: To access and review all the documents related to the information collection listed in this notice, please use http://www.regulations.gov by searching the Docket ID number ED-2017-ICCD-0046. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 216-34, Washington, DC 20202-4537.

FOR FURTHER INFORMATION CONTACT: For specific questions related to collection activities, please contact Meredith Bachman, 202-245-7494.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Impact Evaluation of Parent Messaging Strategies on Student Attendance.

OMB Control Number: 1850—NEW.

Type of Review: A new information collection.

Respondents/Affected Public: State, Local, and Tribal Governments; Individuals or Households.

Total Estimated Number of Annual Responses: 1,890.

Total Estimated Number of Annual Burden Hours: 597.

Abstract: Most school districts have policies in place to systematically address student absenteeism, which remains a considerable problem across grade levels in many parts of the country. Typical attendance practices include parent notification by letters, phone calls, parent meetings, home visitation, and, for students with significant numbers of absences, referrals to truancy programs and family courts. Such practices can be costly.

Text messaging interventions are becoming increasingly popular—in fields such as public health and prevention—due to their low cost, scalability, and evidence of impact. School districts have increasing capacity to use technology to implement messaging interventions. Thus, an evaluation to determine whether a text messaging intervention can improve student attendance in a cost effective manner is warranted.

To our knowledge, this project is the first multidistrict random assignment study of the impact of a text messaging intervention for parents on student attendance and achievement. In addition, consistent with the Consolidated and Further Continuing Appropriations Act, 2015 (Pub. L. 113-235), which provides the legislative authority to conduct this study, this study will focus on low-performing schools with high levels of poverty and student absenteeism.

Dated: June 16, 2017.
Kate Mullan,
Acting Director Information Collection Clearance Division, Office of the Chief Privacy Officer, Office of Management.

[FR Doc. 2017-12945 Filed 6-20-17; 8:45 am]

BILLING CODE 4000-01-P